DEPARTMENT OF HOUSING AND URBAN DEVELOPMENT

[Docket No. FR-5750-N-21]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-2265 (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-887; COE: Mr. Scott Whiteford, Army Corps of Engineers, Real Estate, CEMP-CR, 441 G Street NW., Washington, DC 20314; (202) 761-5542; COAST GUARD: Commandant, United States Coast Guard, Attn: Jennifer Stomber, 2100 Second St. SW., Stop 7901, Washington, DC 20593-0001; (202) 475-5609; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202) 358-1124; NAVY: Mr. Steve Matteo, Department of the Navy, Asset Management Division, Naval Facilities Engineering Command, Washington Navy Yard, 1330 Patterson Ave. SW., Suite 1000, Washington, DC 20374; (202) 685-9426; (These are not toll-free numbers).

Dated: May 15, 2014.
Ann Marie Oliva,
Deputy Assistant Secretary (Acting) for Special Needs.

TITLE V, FEDERAL SURPLUS PROPERTY PROGRAM, FEDERAL REGISTER REPORT FOR 05/23/2014

Suitable/Available Properties

Building

Arizona

13 Buildings

Wellton Property

Wellton AZ 85356

Landholding Agency: GSA

Property Number: 54201420005

Status: Excess

GSA Number: 9-X-AZ-0865-AA

Directions: Landholding Agency: DHS; Disposal Agency: GSA; AZ0084; AZ0085; AZ0086; AZ0087; AZ0088; AZ0089; AZ0406; AZ0407; AZ0408; AZ3960; AZ0221; AZ0222; AZ0223

Comments: 95,521.44 total sq. ft. for all properties; built in 2004 & 2007; contact GSA for more information on a specific property

Arkansas

Concrete Masonry Vault Toilet

Pine Bluff Project Office

Pine Bluff AR 71602

Landholding Agency: COE

Property Number: 31201420006

Status: Excess

Comments: off-site removal only; 480 sq. ft.; 38+ yrs.-old; structurally sounds; contact COE for more information

California

1500-Del Rosa Garage

4121 Quail Canyton Rd.

San Bernardino CA 92404

Landholding Agency: Agriculture

Property Number: 15201420006

Status: Excess

Comments: off-site removal only; 600 sq. ft.; storage; 79+ yrs.-old; fair conditions; secured area; contact Agriculture for more information

1000- Del Rosa Office

4121 Quail Canyton Rd.

San Bernardino CA 92404

Landholding Agency: Agriculture

Property Number: 15201420008

Status: Excess

Comments: off-site removal only; 1,872 sq. ft.; office; 81+ yrs.-old; poor conditions; secured area; contact Agriculture for more information

1620- Del Rosa Shed

4121 Quail Canyton Rd

San Bernardino CA 92404

Landholding Agency: Agriculture

Property Number: 15201420009

Status: Excess

Comments: off-site removal; 198 sq. ft.; storage; poor conditions; 80+ yrs.-old; secured area; contact Agriculture for more information

Florida

CG Station Marathon Housing

57525 Goodley St.

Marathon FL 33050

Landholding Agency: Coast Guard

Property Number: 88201420002

Status: Unutilized

Comments: 1,520 sq. ft.; 33+ yrs.-old; poor conditions; contact Coast Guard for more information

USCG Station

151/153 Treasure Harbor Dr.

Islamorada FL 33036

Landholding Agency: Coast Guard

Property Number: 88201420005

Status: Unutilized

Comments: 5,052 sq. ft.; deterioration; moisture damage; surrounded by a fence boundary; contact Coast Guard for more information

USCG Station

141/143 Treasure Harbor Dr.

Islamorada FL 33036

Landholding Agency: Coast Guard

Property Number: 88201420006

Status: Unutilized

Comments: 5,052 sq. ft.; 38+ yrs.-old; deterioration; surrounded by a fence boundary; contact Coast Guard for more information

Illinois

Peoria Radio Repeater Site

Btw. Spring Creek & Caterpillar Ln.

Peoria IL

Landholding Agency: COE

Property Number: 31201420004

Status: Excess

Comments: pre-1978; 8 x 12 equipment storage shed; repairs needed; contact COE for more information

Mississippi

Building No. 591-

Registration House

Enid Lake

Enid Lake MS

Landholding Agency: COE

Property Number: 31201420007

Status: Unutilized

Comments: 400 sq. ft.; registration house for Chickasaw Hill Rec. area; 228+ months vacant; extensive deterioration; major repairs needed; contact COE for more information

Montana

West Fork Cookhouse, Bldg.

#D2408

Mile 14 on Montana Hwy 38

Philipsburg MT 59858

Landholding Agency: Agriculture

Property Number: 15201420010

Status: Excess

Comments: off-site removal only; relocation may not be feasible due to the dilapidated conditions; no foundation; rodent infestation; 864 sq. ft.; storage; contact Agriculture for more info.

Ohio

N. Appalachian Experimental

Watershed Research Ctr.

28850 State Rte. 621

Coshocton OH 43824

Landholding Agency: GSA

Property Number: 54201420006

Status: Excess

GSA Number: 1-A-OH-849

Directions: Landholding Agency: Agriculture; Disposal Agency: GSA

Comments: 70,539 total sq. ft. for two bldgs.; storage/office; fair to poor conditions; lead-based paint; asbestos; PCBs; mold; remediation required; contact GSA for more information

Oklahoma

SWT—Hulah Lake

396120 State Hwy

Copan OK 74022

Landholding Agency: COE

Property Number: 31201420008

Status: Unutilized

Comments: 289 sq. ft.; toilet; 52+ yrs.-old; repairs needed; contact COE for more information

Texas

Greenhouse Asset ID #

620240B033/RPUID 03.54364

#13101 Southern Plains Agric. Res. Ctr.

College Station TX 77845

Landholding Agency: Agriculture

Property Number: 15201420007

Status: Unutilized

Comments: 1,950 sq. ft.; 48+ yrs.-old; repairs required for mechanical equipment; contact Agriculture for more information

SWT—Pat Mayse Lake

12 miles North of Paris, TX

Powderly TX 75473

Landholding Agency: COE

Property Number: 31201420005

Status: Unutilized

Directions: XCAA02 (64 sq. ft.); XCAA03 (64 sq. ft.)

Comments: off-site removal only; no future agency need; gatehouses; built in 1987; repairs needed; secured area; contact COE for more information

California

Storehouse (HVAC)

Edwards AFB

Edwards AFB CA

Landholding Agency: NASA

Property Number: 71201420004

Status: Excess

Comments: public access denied and no alternative method to gain access w/out compromising national security

Reasons: Secured Area

B-261

Naval Base San Diego

San Diego CA

Landholding Agency: Navy

Property Number: 77201420007

Status: Excess

Directions: NFA 100000746758

Comments: public access denied and no alternative method to gain access w/out compromising national security.

Reasons: Secured Area

Building 23199

Fuels Rd.

Camp Pendleton CA 92055

Landholding Agency: Navy

Property Number: 77201420009

Status: Excess

Comments: public access denied and no alternative method to gain access w/out compromising national security.

Reasons: Secured Area

Colorado

VOR Site—Byers, CO

Lat. 39.746396, Long 103.972340

Byers CO 80103

Landholding Agency: GSA

Property Number: 54201420004

Status: Excess

GSA Number: 7-W-CO-0691-AA

Directions: Landholding Agency: FAA; Disposal Agency: GSA

Comments: can only be reached by crossing private property and there is no established right or means to entry.

Reasons: Other—landlocked Not accessible by road

Florida

CG Station Islamorada Housing

161/163 Treasure Harbor Dr.

Islamorada FL 33036

Landholding Agency: Coast Guard

Property Number: 88201420004

Status: Unutilized

Comments: public access denied and no alternative method to gain access w/out compromising national security.

Reasons: Secured Area

CG Station Marathon Housing

1800 Overseas Hwy

Marathon FL 33050

Landholding Agency: Coast Guard

Property Number: 88201420007

Status: Unutilized

Comments: public access denied and no alternative method to gain access w/out compromising national security.

Reasons: Secured Area

Illinois

Building 1-A, Admin. Offc.

201 Decatur Ave.

Great Lakes IL 60088

Landholding Agency: Navy

Property Number: 77201420008

Status: Unutilized

Comments: public access denied and no alternative method to gain access w/out compromising national security.

Reasons: Secured Area

New York

3 Building

10 Search Ln.

Staten Island NY 10305

Landholding Agency: Coast Guard

Property Number: 88201420003

Status: Underutilized

Directions: 2; 5; 6

Comments: public access denied and no alternative method to gain access w/out compromising national security.

Reasons: Secured Area

[FR Doc. 2014-11695 Filed 5-22-14; 8:45 am]

BILLING CODE 4210-67-P